DEPARTMENT OF COMMERCE

Bureau of Industry and Security

Action Affecting Export Privileges; Gerald Morey

Correction

In notice document 04-25696 beginning on page 67700 in the issue of Friday, November 19, 2004, make the following corrections:

1. On page 67700, in the first column, after the subject heading, in the first line, “Morely” should read “Morey”.

2. On the same page, in the second column, in the second full paragraph, in the fourth line, “FIC” should read “FCI”.

[FR Doc. C4-25696 Filed 12-7-04; 8:45 am]

BILLING CODE 1505-01-D

DEPARTMENT OF EDUCATION

Notice of Proposed Information Collection Requests

Correction

In notice document E4-3122 beginning on page 65153 in the issue of Wednesday, November 10, 2004, make the following correction:

On page 65153, in the second column, in the DATES section, in the second and third lines, “January 10, 2004” should read “January 10, 2005”.

[FR Doc. Z4-3122 Filed 12-7-04; 8:45 am]

BILLING CODE 1505-01-D